DEPARTMENT OF EDUCATION

Advisory Committee on Student Financial Assistance: Meeting

AGENCY: Advisory Committee on Student Financial Assistance, Education.

ACTION: Notice of upcoming teleconference meeting.

SUMMARY: This notice sets forth the schedule and proposed agenda of a forthcoming teleconference meeting of the Advisory Committee on Student Financial Assistance. Individuals who will need accommodations for a disability in order to attend the teleconference meeting (i.e., interpreting service, assistive listening devices, and/or materials in alternative format) should notify the Advisory Committee no later than 2 p.m., on Thursday, September 22, 2005 by contacting Ms. Hope Gray at (202) 219-2099 or via e-mail at Hope.Gray@ed.gov. We will attempt to meet requests after this date, but cannot guarantee availability of the requested accommodation. The teleconference site is accessible to individuals with disabilities. This notice also describes the functions of the Advisory Committee. Notice of this hearing is required under Section 10(a)(2) of the Federal Advisory Committee Act. This document is intended to notify the general public. Note: Due to circumstances surrounding the availability of Committee members to participate in a formal meeting and other scheduling conflicts, it is necessary to hold a teleconference before September 30 to address vital Advisory Committee business. Therefore, we were unable to publish this notice 15 days in advance of the scheduled teleconference as required under Section 10(a)(2) of the Federal Advisory Committee Act.

DATE and time: Monday, September 26, 2005, beginning at 2:30 p.m., and ending at approximately 4:30 p.m.

ADDRESSES: Office of the Advisory Committee on Student Financial Assistance, Capitol Place, 80 F Street, NW., Room 412, Washington, DC 20202-7582.

FOR FURTHER INFORMATION CONTACT: Ms. Nicole A. Barry, Deputy Director, Advisory Committee on Student Financial Assistance, Capitol Place, 80 F Street, NW., Suite 413, Washington, DC 20202-7582, (202) 219-2099.

SUPPLEMENTARY INFORMATION: The Advisory Committee on Student Financial Assistance is established under section 491 of the Higher Education Act of 1965 as amended by Public Law 100-50 (20 U.S.C. 1098). The Advisory Committee serves as an independent source of advice and counsel to the Congress and the Secretary of Education on student financial aid policy. Since its inception, the congressional mandate requires the Advisory Committee to conduct objective, nonpartisan, and independent analyses on important aspects of the student assistance programs under Title IV of the Higher Education Act. In addition, Congress expanded the Advisory Committee's mission in the Higher Education Amendments of 1998 to include several important areas: access, Title IV modernization, distance education, and early information and needs assessment. Specifically, the Advisory Committee is to review, monitor and evaluate the Department of Education's progress in these areas and report recommended improvements to Congress and the Secretary.

The Advisory Committee has scheduled this teleconference solely to conduct the election of officers and other Committee business. The proposed agenda includes (a) the election of officers and (b) of discussion of the Advisory Committee's FY2006 work plan.

Space for the teleconference meeting is limited and you are encouraged to register early if you plan to attend. You may register by sending an e-mail to the following address: ACSFA@ed.gov or Tracy.Deanna.Jones@ed.gov. Please include your name, title, affiliation, complete address (including internet and e-mail, if available), and telephone and fax numbers. If you are unable to register electronically, you may fax your registration information to the Advisory Committee staff office at (202) 219-3032. You may also contact the Advisory Committee staff directly at (202) 219-2099. The registration deadline is Friday, September 23, 2005.

Records are kept for Advisory Committee proceedings, and are available for inspection at the Office of the Advisory Committee on Student Financial Assistance, Capitol Place, 80 F Street, NW., Suite 413, Washington, DC, from the hours of 9 a.m. to 5:30 p.m., Monday through Friday, except Federal holidays. Information regarding the Advisory Committee is available on the Committee's Web site, http://www.ed.gov/ACSFA.

Dated: September 15, 2005.
William J. Goggin,
Executive Director, Advisory Committee on Student Financial Assistance.

[FR Doc. 05-18772 Filed 9-20-05; 8:45 am]

BILLING CODE 4000-01-M